DEPARTMENT OF AGRICULTURE

Forest Service

Fishtrap EIS, Lolo National Forest, Sanders County, MT

AGENCY: Forest Service, USDA.

ACTION: Notice; intent to prepare environmental impact statement.

SUMMARY: The Forest Service will prepare an environmental impact statement (EIS) on a proposal to implement timber harvest, precommercial thinning, prescribed burning, herbicide treatment of noxious weeds, abandonment of the Fishtrap grazing allotment, temporary road construction, road reconstruction and road decommissioning; and to correct management area mapping errors in the Lolo National Forest Land and Resource Management Plan (Forest Plan) in the Fishtrap Creek drainage, Lolo National Forest, Plains/Thompson Falls Ranger District, Sanders County, Montana.

This EIS will tier to the Lolo Forest Plan Final EIS (April, 1986).

DATES: Written comments should be received within 30 days following publication of this notice.

ADDRESSES: Please submit written comments on the proposed management activities or a request to be placed on the project mailing list to: Lisa Krueger, District Ranger, Plains/Thompson Falls Ranger District, Lolo National Forest, P.O. Box 429, Plains, Montana 59859.

FOR FURTHER INFORMATION CONTACT: Pat Partyka, EIS Team Leader, (406) 826-4314.

SUPPLEMENTARY INFORMATION: The Fishtrap analysis area of approximately 36,400 acres is located approximately 20 air miles north of Thompson Falls, Montana, Sanders County, in T23N, R28W; T23N, R29W; T24N, R27W; T24N, R28W; T24N, R29W; and T25N, R28W; PMM. Within this area, the Lolo National Forest proposes (1) Approximately 2921 acres of timber harvest; (2) approximately 1037 acres of precommercial thinning; (3) approximately 887 acres of prescribed burning; (4) approximately 2½ miles of temporary road construction to access some of the harvest units; (5) approximately 177 miles of road decommissioning; (6) approximately 30-35 miles of road reconstruction; (7) approximately 30 miles of herbicide treatment of noxious weeds along roadsides; (8) abandonment of the Fishtrap grazing allotment; and (9) to correct Forest Plan mapping errors in scattered parcels throughout the analysis area by changing an approximate net 625 acres from timber-suitable to unsuitable management areas. In addition to these proposals, the Forest Service will consider alternate road access to the Fishtrap Lake campground, which may include long-term specified road construction.

The Lolo National Forest Plan, 1986, provides overall guidance for land management activities in the project area. The purposes for these actions are to: (1) Improve water quality, fish habitat and fish passage; (2) Improve grizzly bear habitat within the Cabinet-Yaak Grizzly Bear Recovery Zone; (3) Restore, maintain or enhance native “at risk” vegetative communities, as identified in the Northern Region Overview, USDA 1998; (4) Provide for ecological sustainability and community stability through the use of forest products; (5) Improve and maintain big game winter range; (6) Provide for a transportation system that better reflects current access and resource concerns and reduces economic burdens associated with maintaining unneeded roads.

Issues currently identified for analysis in the EIS include potential effects on wildlife (particularly grizzly bear), water quality, fisheries and forest access.

The Forest Service will consider a range of alternatives. A No Action alternative and other alternatives, which respond to significant issues, will be developed, analyzed and compared in the Draft EIS.

The Draft EIS is expected to be filed with the Environmental Protection Agency (EPA) and available for public review in April 2003. Comments on the Draft EIS will be considered and responded to in the Final EIS, scheduled to be completed by August 2003.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day scoping comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Responsible Official: Deborah L.R. Austin, Forest Supervisor, Lolo National Forest, Building 24—Fort Missoula, Missoula, MT 59804, is the responsible official. In making the decision, the responsible official will consider comments, responses, disclosure of environmental consequences, and applicable laws, regulations, and policies. The responsible official will state the rationale for the chosen alternative in the Record of Decision.

Dated: August 2, 2002.
Deborah L.R. Austin,
Forest Supervisor.

[FR Doc. 02-20036 Filed 8-7-02; 8:45 am]

BILLING CODE 3410-11-M